DEPARTMENT OF THE INTERIOR

Fish and Wildlife Service

50 CFR Part 17

[FWS-R8-ES-2007-0007; 92210-1117-0000-B4]

RIN 1018-AU86

Endangered and Threatened Wildlife and Plants; Designation of Critical Habitat for Acanthomintha ilicifolia (San Diego thornmint)

AGENCY: Fish and Wildlife Service, Interior.

ACTION: Proposed rule; reopening of public comment period and revisions to proposed critical habitat boundaries.

SUMMARY: We, the U.S. Fish and Wildlife Service (Service), announce the reopening of the comment period on the proposed designation of critical habitat for Acanthomintha ilicifolia (San Diego thornmint) under the Endangered Species Act of 1973, as amended (Act). We are reopening the comment period because of new information we received following the close of the last public comment period on this proposed action. This new information leads us to propose revised boundaries for Subunit 1A and to update the areas we are proposing for exclusion from the final designation. The reopened comment period will provide the public; Federal, State, and local agencies; and Tribes with an additional opportunity to submit comments on the original proposed rule and the revisions proposed in this document. Comments previously submitted on the proposed critical habitat designation for A. ilicifolia need not be resubmitted as they have already been incorporated into the public record and will be fully considered in any final decision.

DATES: We will consider comments and information received or postmarked on or before June 12, 2008.

ADDRESSES: You may submit comments by one of the following methods:

• Federal eRulemaking Portal: http://www.regulations.gov. Follow the instructions for submitting comments.

• U.S. mail or hand-delivery: Public Comments Processing, Attn: RIN 1018-AU86; Division of Policy and Directives Management; U.S. Fish and Wildlife Service; 4401 N. Fairfax Drive, Suite 222; Arlington, VA 22203.

We will not accept e-mail or faxes. We will post all comments on http://www.regulations.gov. This generally means that we will post any personal information you provide us (see the “Public Comments” section below for more information).

FOR FURTHER INFORMATION CONTACT: Jim Bartel, Field Supervisor, U.S. Fish and Wildlife Service, Carlsbad Fish and Wildlife Office, 6010 Hidden Valley Road, Carlsbad, CA 92011; telephone 760-431-9440; facsimile 760-431-5901. If you use a telecommunications device for the deaf (TDD), call the Federal Information Relay Service (FIRS) at 800-877-8339.

SUPPLEMENTARY INFORMATION:

Public Comments

We will accept written comments and information during this reopened comment period on our proposed critical habitat designation for Acanthomintha ilicifolia published in the Federal Register on March 14, 2007 (72 FR 11945), the corrections to the proposed designation published in the Federal Register on November 27, 2007 (72 FR 66122), and the new information provided in this document. We will consider information and recommendations from all interested parties. We are particularly interested in comments concerning:

(1) The reasons why we should or should not designate habitat as critical habitat under section 4 of the Act (16 U.S.C. 1531 et seq.), including whether the benefit of designation would outweigh threats to the species caused by the designation, such that the designation of critical habitat is prudent.

(2) Specific information on:

• The amount and distribution of Acanthomintha ilicifolia habitat,

• What areas within the geographical area occupied at the time of listing that contain features essential for the conservation of the species we should include in the designation and why, and

• What areas not occupied at the time of listing are essential to the conservation of the species and why.

(3) Any proposed critical habitat areas covered by conservation or management plans that we should consider for exclusion from the designation under section 4(b)(2) of the Act. We specifically request information on any operative or draft habitat conservation plans that include Acanthomintha ilicifolia as a covered species that have been prepared under section 10(a)(1)(B) of the Act, or any other management plan, conservation plan, or agreement that benefits the species or its physical and biological features.

(4) Land use designations and current or planned activities in the proposed critical habitat areas and their possible impacts on proposed critical habitat for the species.

(5) Specific information concerning whether the benefits of excluding areas proposed for critical habitat within the City of San Diego subarea plan and the County of San Diego subarea plan under the San Diego Multiple Species Conservation Program (MSCP), the Carlsbad and Encinitas subarea plans under the San Diego Multiple Habitat Conservation Program (MHCP), and the Manchester Avenue Mitigation Bank under section 4(b)(2) of the Act outweigh the benefits of their inclusion in designated critical habitat.

(6) Additional scientific or commercial information that will help us to better delineate areas that contain the primary constituent elements laid out in the appropriate quantity and spatial arrangement essential for the conservation of the species, specifically, information pertaining to the amount and distribution of the primary constituent elements in Subunit 1A.

(7) Information about potential impacts that the designation of critical habitat in Subunit 1A may have on the operation of McClellan-Palomar Airport, specifically, whether the benefits of excluding this area would outweigh the benefits of including this area under section 4(b)(2) of the Act.

(8) Any foreseeable economic, national security, or other relevant impacts resulting from the proposed designation and, in particular, any impacts on small entities.

(9) Whether we could improve or modify our approach to designating critical habitat in any way to provide for greater public participation and understanding, or to better accommodate public concerns and comments.

Comments and information submitted on the proposed rule (72 FR 11945) during the initial comment period from March 14, 2007, to May 14, 2007, or the second comment period (72 FR 66122) from November 27, 2007, to December 27, 2007, do not need to be resubmitted as they have already been incorporated into the public record. Our final determination concerning the designation of critical habitat will take into consideration all written comments and any additional information we receive during all comment periods. On the basis of information provided during the public comment periods on the critical habitat proposal and the associated draft economic analysis (DEA), we may, during the development of our final determination, find that areas proposed do not meet the definition of “critical habitat” under section 3(5)(A) of the Act, or are appropriate for exclusion under section 4(b)(2) of the Act.

You may submit your comments and materials concerning our proposed rule by one of the methods listed in the ADDRESSES section. We will not consider comments sent by e-mail or fax or to an address not listed in the ADDRESSES section.

If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this notice, will be available for public inspection on http://www.regulations.gov, or by appointment, during normal business hours, at the U.S. Fish and Wildlife Service, Carlsbad Fish and Wildlife Office (see FOR FURTHER INFORMATION CONTACT).

You may obtain copies of the proposed rule and DEA by mail from the Carlsbad Fish and Wildlife Office (see FOR FURTHER INFORMATION CONTACT) or by visiting the Federal eRulemaking Portal at http://www.regulations.gov.

Background

It is our intent to discuss only those topics directly relevant to the designation of critical habitat in this notice. For more information on the taxonomy and biology of Acanthomintha ilicifolia, refer to the final listing rule published in the Federal Register on October 13, 1998 (63 FR 54938) and the proposed critical habitat rule published on March 14, 2007 (72 FR 11945).

On August 10, 2004, the Center for Biological Diversity and California Native Plant Society challenged our failure to designate critical habitat for Acanthomintha ilicifolia as well as four other plant species (Center for Biological Diversity, et al. v. Norton, C-04-3240 JL (N. D. Cal.)). In settlement of the lawsuit, the Service agreed to submit to the Federal Register a proposed rule to designate critical habitat, if prudent, on or before February 28, 2007, and a final designation by February 28, 2008. On March 14, 2007, we published a proposed rule to designate critical habitat for A. ilicifolia (72 FR 11945), identifying a total of approximately 1,936 acres (ac) (783 hectares (ha)) of land in San Diego County, California. We proposed 1,302 ac (527 ha) of land for exclusion from the final designation of critical habitat under section 4(b)(2) of the Act. On November 27, 2007, we reopened the comment period on the proposed rule, announced the availability of the draft economic analysis for the proposed rule, and made several corrections to the proposed rule (72 FR 66122). As a result of the corrections, the proposed critical habitat (1,936 acres (ac) (783 hectares (ha))) was reduced by approximately 69 ac (27 ha) and the area being proposed for exclusion (1,302 ac (527 ha)) was reduced by 168 ac (68 ha). Therefore, the total amount of land proposed as critical habitat was 1,867 ac (756 ha). Of the total amount of land proposed as critical habitat, we proposed to exclude 1,134 ac (459 ha) from the final designation. Due to the substantive nature of the comments and new information received on this proposed rule, we requested an extension of the February 28, 2008, court-ordered date for the completion of the final designation. An extension was granted on April 15, 2008, which now requires us to submit to the Federal Register the final critical habitat designation by August 14, 2008.

Section 3 of the Act defines critical habitat as the specific areas within the geographical area occupied by a species, at the time it is listed in accordance with the Act, on which are found those physical or biological features essential to the conservation of the species and that may require special management considerations or protection, and specific areas outside the geographical area occupied by a species at the time it is listed, upon a determination that such areas are essential for the conservation of the species. If the proposed rule is made final, section 7 of the Act will prohibit destruction or adverse modification of critical habitat by any activity funded, authorized, or carried out by any Federal agency. Federal agencies proposing actions affecting areas designated as critical habitat must consult with us on the effects of their proposed actions, pursuant to section 7(a)(2) of the Act.

New Information Relating to the Proposed Critical Habitat, Revisions to Proposed Critical Habitat Boundaries, and Updated Areas Proposed for Exclusion

On March 14, 2007, we proposed to designate critical habitat in four units comprising a total of 1,936 ac (783 ha) (72 FR 11945). At that time we proposed to exclude 1,302 ac (527 ha) under section 4(b)(2) of the Act (72 FR 11945, March 14, 2007). In the notice of availability for the draft economic analysis (DEA) published on November 27, 2007 (72 FR 66122), we announced corrections to the proposed designation that reduced the size of several subunits. As a result of those corrections, the total identified proposed critical habitat area was reduced from 1,936 ac (783 ha) to 1,867 ac (756 ha). Of the total amount of land proposed as critical habitat, the total area proposed for exclusion from the final designation was reduced from 1,302 ac (527 ha) to 1,134 ac (459 ha). Following publication of the November 27, 2007, document, we received new information for Subunit 1A that leads us to reduce the proposed critical habitat by an additional 17 ac (7 ha). Therefore, at this time we are proposing a total of 1,850 ac (749 ha) as critical habitat for Acanthomintha ilicifolia. Additionally, we have become aware of information indicating that excluding Subunits 1A, 1B, and 1C within the MHCP may not be appropriate. Of the 1,850 ac (749 ha) we are proposing as critical habitat, we are intending to exclude 964 ac (390 ha) from the final designation. The information we received that led to these intended changes is presented below. We are opening this comment period to provide the public the opportunity to comment on these items.

We received two comments indicating some areas in Subunit 1A are developed as agricultural land and some areas are actively used for maintenance and navigation purposes for McClellan-Palomar Airport. Further, the Federal Aviation Administration (FAA) requested the Service to consider impacts associated with the designation of critical habitat in Subunit 1A (Palomar Airport) on the operation of McClellan-Palomar Airport. Specifically, the FAA requested that we not designate critical habitat in areas of Subunit 1A that encompass a series of navigational devices (i.e., Medium Intensity Approach Lighting System with Runway Alignment Indicator Lights (MALSRs)) and an associated dirt maintenance road. We met with the County of San Diego and the FAA at Subunit 1A on January 9, 2008, and we mapped agricultural fields and areas that are actively used for maintenance and navigation purposes at McClellan-Palomar Airport. We found that portions of the agricultural fields immediately adjacent to known occurrences of Acanthomintha ilicifolia do contain the primary constituent element (PCE) (PCE subparts 1b and 1c; clay lenses on gently sloping terrain and derived from gabbro and soft calcareous sandstone substrates) laid out in the appropriate quantity and spatial arrangement for the conservation of the species and contribute to the stability and function of the habitat in Subunit 1A. However, the developed agricultural areas farther than approximately 100 feet (ft) (30 meters (m)) from known occurrences of A. ilicifolia, and the entirety of the dirt maintenance road within Subunit 1A, no longer appear to contain the features essential to the conservation of A. ilicifolia. While the agricultural fields have the same clay soil that supports A. ilicifolia, these areas no longer support the species because the soil structure has been altered by discing and other agricultural practices, and the soil no longer has the crumbly texture and deep fissures that are indicative of this species' habitat (PCE subpart 1c). Additionally, the area is infested with nonnative plants, and open areas no longer exist to support A. ilicifolia (PCE subpart 1d). We have determined that the developed areas of Subunit 1A have been altered to a point where these areas no longer contain the features essential for the conservation of A. ilicifolia. Therefore, the developed areas in Subunit 1A greater than 100 ft (30 m) from known occurrences of A. ilicifolia and the entirety of the dirt maintenance road do not meet the definition of critical habitat. A total of 17 ac (7 ha) have been removed from the area proposed as Subunit 1A; the resulting area now identified as critical habitat in this unit is 71 ac (29 ha). As noted above, we are requesting additional information from the public pertaining to the proposed designation of critical habitat encompassing the MALSRs and whether the benefits of excluding this area would outweigh the benefits of including this area under section 4(b)(2) of the Act.

In the March 14, 2007, proposed rule (72 FR 11945), we proposed the exclusion of and requested public comment on lands in Subunits 1A and 1B covered by the Carlsbad Habitat Management Plan (HMP; i.e., the Carlsbad Subarea Plan) under the MHCP from the designation of critical habitat under section 4(b)(2) of the Act. Upon further analysis of the Carlsbad HMP, we found that coverage of Acanthomintha ilicifolia under this habitat conservation plan (HCP) is contingent on a funded management plan being in place for this species and the completion of the San Marcos subarea plan under the MHCP. In the time that has elapsed since the development and publication of the proposed rule (March 14, 2007, 72 FR 11945), the City of San Marcos has not completed its subarea plan. Therefore, we believe that excluding land covered by the Carlsbad HMP in Subunits 1A and 1B is inappropriate. With the information we have at this time, we intend to designate the lands covered by the Carlsbad HMP in Subunits 1A and 1B as critical habitat. While we have received one comment indicating that some land in Subunit 1A is conserved and managed, we do not believe this meets the requirements for A. ilicifolia to be covered under the Carlsbad HMP. We are requesting additional information from the public on the appropriateness of excluding lands covered by the Carlsbad HMP.

In the March 14, 2007, proposed rule (72 FR 11945), we proposed the exclusion of, and requested public comment on, the lands in Subunit 1C covered by the pending Encinitas subarea plan under the MHCP from the designation of critical habitat under section 4(b)(2) of the Act. At this time, the Encinitas subarea plan has not been completed and we believe excluding land based solely on its inclusion within the boundaries of this incomplete subarea plan would be inappropriate. Conversely, the majority of Subunit 1C (72 ac (29 ha)) is part of the Manchester Avenue Mitigation Bank and is actively managed for Acanthomintha ilicifolia (Spiegelberg 2005, pp. 1-33). We believe the benefits of exclusion may outweigh the benefits of including these lands in a critical habitat designation and that this exclusion would not result in extinction of the species. Therefore, we are considering the possibility of excluding 72 ac (29 ha) of Subunit 1C under section 4(b)(2) of the Act and designating the remaining 20 ac (8 ha) of private lands outside the Manchester Avenue Mitigation Bank as critical habitat. We are requesting public comment on benefits of including and benefits of excluding lands from critical habitat designation that are: (1) Covered by the Manchester Avenue Mitigation Bank; and (2) outside of the Manchester Avenue Mitigation Bank, but within the pending Encinitas subarea plan.

We hereby notify the public that the final designation of critical habitat may differ from the proposed rule published on March 14, 2007 (72 FR 11945), as corrected on November 27, 2007 (72 FR 66122). We intend to use the best available scientific and commercial data available to delineate the specific geographic areas that contain the physical and biological features essential to the conservation of Acanthomintha ilicifolia (i.e., the PCE laid out in the appropriate quantity and spatial arrangement) or that are otherwise essential for the conservation of the species and in making decisions regarding exclusions under 4(b)(2) of the Act. Therefore, we are requesting any additional information that may be useful in reassessing the proposed boundaries of critical habitat. Additionally, we request any information that may be useful in determining whether or not the benefits of excluding areas from critical habitat under section 4(b)(2) of the Act outweigh the benefits of including areas in critical habitat, specifically regarding the exclusion of areas covered by the MHCP as discussed in the proposed rule (72 FR 11945, March 14, 2007) (i.e., the areas within the cities of Carlsbad and Encinitas, California), considering the new information summarized above. Additional comments and information on these issues will help make the final rule as accurate as possible.

Table 1 contains the corrected area values based on revisions to proposed critical habitat Subunits 1A and 1C. The revisions to Subunit 1A change the boundary description published in the March 14, 2007, proposed rule. This document publishes the boundary description for Subunit 1A, incorporating the revisions described in this document, along with a map depicting the revised location of proposed critical habitat for Acanthomintha ilicifolia.

Table 1.—Areas Proposed as Critical Habitat for Acanthomintha ilicifolia After the Corrections and Amendments to the Areas Proposed as Critical Habitat on March 14, 2007 (72 FR 11945), as Described in This Document and the Document Published on November 27, 2007 (72 FR 66122), and Areas Being Proposed and Considered for Exclusion From the Final Critical Habitat Designation Under Section 4(b)(2) of the Act (Acres (ac), Hectares (ha), CNDDB Element Occurrences (EO))
Critical habitat unit | Land ownership | Area proposed as critical habitat in March 14, 2007, proposed rule | Area proposed as critical habitat after corrections and amendments | Area proposed for exclusion from final critical habitat | Area being considered for exclusion from final critical habitat
Unit 1: Northern San Diego County
1A. Palomar Airport (EO 70) | Private | 7 ac (3 ha) | 7 ac (3 ha) | 0 ac (0 ha) | 0 ac (0 ha).
| State/Local | 81 ac (33 ha) | 64 ac (26 ha) | 0 ac (0 ha) | 0 ac (0 ha).
1B. Southeast Carlsbad (EO 47) | Private | 73 ac (29 ha) | 73 ac (29 ha) | 0 ac (0 ha) | 0 ac (0 ha).
1C. Manchester (EO 28, EO 42 and EO 54) | Private | 92 ac (37 ha) | 92 ac (37 ha) | 0 ac (0 ha) | 72 ac (29 ha).
Unit 2: Central San Diego County
2A. Los Peñasquitos Canyon (EO 19) | State/Local | 63 ac (25 ha) | 63 ac (25 ha) | 63 ac (25 ha) | 0 ac (0 ha).
2B. Sabre Springs (EO 36) | Private | 1 ac (<1 ha) | 1 ac (<1 ha) | 1 ac (<1 ha) | 0 ac (0 ha).
| State/Local | 51 ac (21 ha) | 51 ac (21 ha) | 51 ac (21 ha) | 0 ac (0 ha).
2C. Sycamore Canyon (EO 32) | Private | 30 ac (12 ha) | 30 ac (12 ha) | 30 ac (12 ha) | 0 ac (0 ha).
| State/Local | 276 ac (112 ha) | 276 ac (112 ha) | 276 ac (112 ha) | 0 ac (0 ha).
2D. Slaughterhouse Canyon (EO 64) | Private | 77 ac (31 ha) | 77 ac (31 ha) | 77 ac (31 ha) | 0 ac (0 ha).
Unit 3: Viejas Mountain and Poser Mountain
3A. Viejas Mountain (EO 73) | Private | 33 ac (13 ha) | 33 ac (13 ha) | 33 ac (13 ha) | 0 ac (0 ha).
3B. Viejas Mountain (EO 50) | Private | 156 ac (63 ha) | 156 ac (63 ha) | 156 ac (63 ha) | 0 ac (0 ha).
| Federal | 52 ac (21 ha) | 52 ac (21 ha) | 0 ac (0 ha) | 0 ac (0 ha).
3C. Viejas Mountain (EO 51) | Private | 38 ac (15 ha) | 38 ac (15 ha) | 0 ac (0 ha) | 0 ac (0 ha).
| Federal | 280 ac (113 ha) | 280 ac (113 ha) | 0 ac (0 ha) | 0 ac (0 ha).
3D. Viejas Mountain (EO 62) | Private | 50 ac (20 ha) | 50 ac (20 ha) | 0 ac (0 ha) | 0 ac (0 ha).
| Federal | 32 ac (13 ha) | 32 ac (13 ha) | 0 ac (0 ha) | 0 ac (0 ha).
3E. Poser Mountain (EO 74) | Federal | 34 ac (14 ha) | 34 ac (14 ha) | 0 ac (0 ha) | 0 ac (0 ha).
3F. Poser Mountain (EO 12) | Private | 7 ac (3 ha) | 7 ac (3 ha) | 0 ac (0 ha) | 0 ac (0 ha).
| Federal | 156 ac (63 ha) | 156 ac (63 ha) | 0 ac (0 ha) | 0 ac (0 ha).
Unit 4: Southern San Diego County
4A. McGinty Mountain (EO 21) | Private | 18 ac (7 ha) | 18 ac (7 ha) | 18 ac (7 ha) | 0 ac (0 ha).
| Federal | 0 ac (0 ha) | 2 ac (1 ha) | 0 ac (0 ha) | 0 ac (0 ha).
4B. McGinty Mountain (EO 22) | Private | 210 ac (85 ha) | 141 ac (57 ha) | 141 ac (57 ha) | 0 ac (0 ha).
| State/Local | 10 ac (4 ha) | 7 ac (3 ha) | 7 ac (3 ha) | 0 ac (0 ha).
4C. McGinty Mountain (EO 30) | Private | 27 ac (11 ha) | 27 ac (11 ha) | 27 ac (11 ha) | 0 ac (0 ha).
| Federal | 0 ac (0 ha) | 1 ac (<1 ha) | 0 ac (0 ha) | 0 ac (0 ha).
4D. Hollenbeck Canyon (EO L) | Private | 23 ac (9 ha) | 23 ac (9 ha) | 23 ac (9 ha) | 0 ac (0 ha).
| State/Local | 61 ac (25 ha) | 61 ac (25 ha) | 61 ac (25 ha) | 0 ac (0 ha).
Total * |  | 1,936 ac (783 ha) | 1,850 ac (749 ha) | 964 ac (390 ha) | 72 ac (429 ha).
* Some columns may not sum exactly due to rounding of values.

Below, we present brief descriptions of the revised proposed subunits and reasons why they meet the definition of critical habitat for Acanthomintha ilicifolia. These revised subunit descriptions replace those provided in the March 14, 2007, proposed rule (72 FR 11945). California Natural Diversity Database (CNDDB) element occurrences are identified as EO in the subunit descriptions below.

Unit Descriptions

Subunit 1A, Palomar Airport (EO 70)

Subunit 1A was occupied by Acanthomintha ilicifolia at the time of listing. Subunit 1A contains several habitat patches known to support A. ilicifolia and contains the features essential for the conservation of the species. Subunit 1A is located in Carlsbad, California, northeast of the intersection of Palomar Airport Road and El Camino Real. Subunit 1A consists of 64 ac (26 ha) of land owned by the County of San Diego and 7 ac (3 ha) of private land. Subunit 1A meets our selection criteria because it supports a population on a unique soil type (criterion 1). This is the only area where A. ilicifolia is still known to occupy calcareous clay soils. The features essential to the conservation of the species may require special management considerations or protection in this subunit to address threats from exotic plant species and unauthorized recreational activities.

Subunit 1C, Manchester (EO 42, EO 28, and EO 54)

Subunit 1C was occupied by Acanthomintha ilicifolia at the time of listing. Subunit 1C contains several habitat patches known to support A. ilicifolia and contains the features essential for the conservation of the species. Subunit 1C is located in Encinitas, California, northeast of the intersection of Manchester Avenue and South El Camino Real. Subunit 1C consists of 92 ac (37 ha) of private land. Subunit 1C meets our selection criteria because it supports one of the most stable populations of A. ilicifolia (criterion 3). The features essential to the conservation of the species may require special management considerations or protection in this subunit to address threats from exotic plant species and unauthorized recreational activities.

The majority of the land that meets the definition of critical habitat in this area (72 ac (29 ha)) is in the Manchester Avenue Mitigation Bank. The Manchester Avenue Mitigation Bank is owned and managed by the Center for Natural Lands Management (CNLM). There is long-term management in place on this site to conserve several sensitive species, including Acanthomintha ilicifolia (Spiegelberg 2005, p. 1). The Manchester Avenue Mitigation Bank is covered by the Manchester Habitat Conservation Area Management Plan (Spiegelberg 2005). This plan provides for the management and monitoring of the portion of Subunit 1C owned by CNLM. Additionally, there is funding in place to provide for the long-term management of this area in a manner that will conserve A. ilicifolia. Therefore, we are considering the possibility of excluding 72 ac (29 ha) of Subunit 1C under section 4(b)(2) of the Act and soliciting public comment based on this consideration (see “Public Comments” section).

References Cited

A complete list of all references we cite in the proposed rule and this document is available on http://www.regulations.gov.

Author

The primary author of this notice is the staff of the Carlsbad Fish and Wildlife Office.

List of Subjects in 50 CFR Part 17

Endangered and threatened species, Exports, Imports, Reporting and recordkeeping requirements, Transportation.

Proposed Regulation Promulgation

Accordingly, we propose to further amend part 17, subchapter B of chapter I, title 50 of the Code of Federal Regulations, as proposed to be amended at 72 FR 11945, March 14, 2007, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Critical habitat for Acanthomintha ilicifolia (San Diego thornmint) in § 17.96(a), which was proposed to be added on March 14, 2007, at 72 FR 11945, is proposed to be amended by revising paragraph (6)(i) and by revising paragraph (6)(iv), as follows:

§ 17.96 Critical habitat—plants.

(a) Flowering plants.

* * * * *

Family Lamiaceae: Acanthomintha ilicifolia (San Diego thornmint)

* * * * *

(6) * * *

(i) Subunit 1A. Land bounded by the following UTM NAD27 coordinates (E,N): 475760, 3666013; 475747, 3665994; 475724, 3665985; 475692, 3665974; 475699, 3665944; 475697, 3665944; 475678, 3665937; 475677, 3665937; 475667, 3665934; 475657, 3665931; 475655, 3665931; 475629, 3665949; 475547, 3665912; 475552, 3665862; 475586, 3665824; 475639, 3665823; 475697, 3665853; 475706, 3665850; 475706, 3665850; 475707, 3665847; 475709, 3665845; 475710, 3665842; 475711, 3665840; 475713, 3665837; 475714, 3665834; 475715, 3665832; 475716, 3665829; 475717, 3665826; 475718, 3665823; 475719, 3665821; 475720, 3665818; 475721, 3665815; 475721, 3665812; 475722, 3665809; 475723, 3665807; 475723, 3665804; 475724, 3665801; 475724, 3665798; 475725, 3665795; 475725, 3665792; 475726, 3665789; 475726, 3665787; 475726, 3665784; 475726, 3665781; 475726, 3665778; 475726, 3665775; 475726, 3665772; 475726, 3665769; 475726, 3665766; 475726, 3665763; 475726, 3665760; 475726, 3665758; 475725, 3665755; 475725, 3665752; 475725, 3665751; 475690, 3665758; 475660, 3665748; 475563, 3665702; 475501, 3665704; 475399, 3665720; 475354, 3665731; 475352, 3665670; 475356, 3665635; 475364, 3665617; 475351, 3665612; 475329, 3665607; 475298, 3665608; 475276, 3665597; 475267, 3665596; 475257, 3665597; 475244, 3665599; 475234, 3665595; 475221, 3665587; 475164, 3665590; 475133, 3665640; 475096, 3665684; 475097, 3665687; 475098, 3665697; 475100, 3665707; 475103, 3665716; 475107, 3665725; 475111, 3665735; 475114, 3665741; 475123, 3665756; 475124, 3665759; 475129, 3665767; 475135, 3665775; 475142, 3665783; 475148, 3665790; 475156, 3665797; 475161, 3665801; 475175, 3665813; 475178, 3665815; 475186, 3665821; 475195, 3665826; 475203, 3665831; 475212, 3665835; 475215, 3665836; 475216, 3665844; 475216, 3665854; 475218, 3665864; 475220, 3665873; 475223, 3665883; 475227, 3665892; 475231, 3665901; 475236, 3665910; 475241, 3665919; 475247, 3665927; 475253, 3665934; 475260, 3665942; 475267, 3665948; 475286, 3665965; 475286, 3665965; 475294, 3665972; 475302, 3665977; 475310, 3665983; 475319, 3665987; 475328, 3665991; 475337, 3665995; 475338, 3665995; 475372, 3666006; 475381, 3666009; 475390, 3666011; 475400, 3666013; 475410, 3666014; 475420, 3666014; 475430, 3666014; 475440, 3666013; 475450, 3666011; 475452, 3666011; 475478, 3666005; 475474, 3666011; 475472, 3666014; 475466, 3666022; 475461, 3666030; 475456, 3666039; 475452, 3666048; 475448, 3666057; 475445, 3666067; 475443, 3666077; 475441, 3666087; 475440, 3666096; 475440, 3666106; 475440, 3666116; 475441, 3666126; 475443, 3666134; 475446, 3666150; 475446, 3666152; 475448, 3666162; 475451, 3666171; 475455, 3666181; 475459, 3666190; 475464, 3666199; 475468, 3666205; 475479, 3666223; 475480, 3666225; 475486, 3666233; 475492, 3666241; 475496, 3666245; 475511, 3666260; 475514, 3666263; 475518, 3666267; 475517, 3666269; 475517, 3666272; 475517, 3666275; 475516, 3666278; 475516, 3666281; 475516, 3666284; 475516, 3666287; 475516, 3666289; 475516, 3666292; 475516, 3666295; 475516, 3666298; 475517, 3666301; 475517, 3666304; 475517, 3666307; 475518, 3666310; 475518, 3666313; 475519, 3666315; 475519, 3666318; 475520, 3666321; 475520, 3666324; 475521, 3666327; 475522, 3666330; 475523, 3666332; 475524, 3666335; 475524, 3666338; 475525, 3666341; 475526, 3666343; 475528, 3666346; 475529, 3666349; 475530, 3666351; 475531, 3666354; 475532, 3666357; 475534, 3666359; 475535, 3666362; 475536, 3666364; 475538, 3666367; 475539, 3666369; 475541, 3666372; 475543, 3666374; 475544, 3666376; 475546, 3666379; 475548, 3666381; 475550, 3666383; 475551, 3666386; 475553, 3666388; 475555, 3666390; 475557, 3666392; 475559, 3666394; 475561, 3666396; 475563, 3666398; 475565, 3666400; 475568, 3666402; 475570, 3666404; 475572, 3666406; 475574, 3666408; 475577, 3666410; 475579, 3666411; 475581, 3666413; 475584, 3666415; 475586, 3666416; 475589, 3666418; 475591, 3666419; 475594, 3666421; 475596, 3666422; 475599, 3666424; 475601, 3666425; 475604, 3666426; 475607, 3666427; 475609, 3666428; 475612, 3666430; 475615, 3666431; 475617, 3666432; 475620, 3666433; 475623, 3666433; 475626, 3666434; 475628, 3666435; 475631, 3666436; 475634, 3666437; 475637, 3666437; 475640, 3666438; 475643, 3666438; 475645, 3666439; 475648, 3666439; 475651, 3666439; 475654, 3666440; 475657, 3666440; 475660, 3666440; 475663, 3666440; 475666, 3666440; 475669, 3666440; 475671, 3666440; 475674, 3666440; 475677, 3666440; 475680, 3666440; 475683, 3666440; 475686, 3666439; 475689, 3666439; 475692, 3666439; 475695, 3666438; 475697, 3666438; 475700, 3666437; 475703, 3666437; 475706, 3666436; 475709, 3666435; 475712, 3666434; 475714, 3666433; 475717, 3666433; 475717, 3666433; 475720, 3666432; 475723, 3666431; 475725, 3666430; 475728, 3666428; 475731, 3666427; 475733, 3666426; 475736, 3666425; 475738, 3666424; 475741, 3666422; 475744, 3666421; 475746, 3666419; 475749, 3666418; 475751, 3666416; 475753, 3666415; 475756, 3666413; 475758, 3666411; 475761, 3666410; 475763, 3666408; 475765, 3666406; 475767, 3666404; 475770, 3666402; 475772, 3666400; 475774, 3666398; 475776, 3666396; 475778, 3666394; 475780, 3666392; 475782, 3666390; 475784, 3666388; 475786, 3666386; 475788, 3666383; 475789, 3666381; 475791, 3666379; 475793, 3666376; 475794, 3666374; 475796, 3666372; 475798, 3666369; 475799, 3666367; 475801, 3666364; 475802, 3666362; 475803, 3666359; 475805, 3666357; 475806, 3666354; 475807, 3666351; 475808, 3666349; 475810, 3666346; 475811, 3666343; 475812, 3666341; 475813, 3666338; 475814, 3666335; 475814, 3666332; 475815, 3666330; 475816, 3666327; 475817, 3666324; 475817, 3666321; 475818, 3666318; 475819, 3666315; 475819, 3666313; 475820, 3666310; 475820, 3666307; 475820, 3666304; 475820, 3666301; 475821, 3666298; 475821, 3666295; 475821, 3666292; 475821, 3666289; 475821, 3666287; 475821, 3666284; 475821, 3666281; 475821, 3666278; 475820, 3666275; 475820, 3666272; 475820, 3666269; 475820, 3666266; 475819, 3666263; 475819, 3666261; 475818, 3666258; 475817, 3666255; 475817, 3666252; 475816, 3666249; 475815, 3666246; 475814, 3666244; 475814, 3666241; 475813, 3666238; 475812, 3666235; 475811, 3666233; 475810, 3666230; 475808, 3666227; 475807, 3666225; 475806, 3666222; 475806, 3666222; 475810, 3666213; 475814, 3666204; 475818, 3666195; 475821, 3666185; 475823, 3666176; 475825, 3666166; 475825, 3666166; 475828, 3666141; 475829, 3666132; 475829, 3666122; 475829, 3666118; 475791, 3666114; 475770, 3666086; 475762, 3666044.

* * * * *

(iv) Note: Map of Unit 1, subunits 1A, 1B, and 1C (Map 2), follows:

BILLING CODE 4310-55-P

* * * * *

Dated: May 1, 2008.
Lyle Laverty,
Assistant Secretary for Fish and Wildlife and Parks.

[FR Doc. E8-10499 Filed 5-12-08; 8:45 am]

BILLING CODE 4310-55-C